DEPARTMENT OF HEALTH AND HUMAN SERVICES

National Institutes of Health

National Cancer Institute; Amended Notice of Meeting

Notice is hereby given of a change in the meeting of the National Cancer Institute Council of Research Advocates, September 9, 2019 at 9:30 a.m. to 4 p.m., National Institutes of Health Building 31, Room 10A28, 31 Center Drive, Bethesda, MD 20892 which was published in the Federal Register on February 15, 2019, 84 FR 4487.

This meeting notice is amended to change the meeting start time and location. The meeting will be held on September 9, 2019 at 9:00 a.m. at the National Institutes of Health, Building 40, Room 1201/1203, 40 Convent Drive, Bethesda, MD 20892. This meeting is open to the public.

Dated: July 29, 2019.
Melanie J. Pantoja,
Program Analyst, Office of Federal Advisory Committee Policy.

[FR Doc. 2019-16445 Filed 7-31-19; 8:45 am]

BILLING CODE 4140-01-P